DEPARTMENT OF TRANSPORTATION

Federal Aviation Administration

14 CFR Part 39

[Docket No. FAA-2008-0044; Directorate Identifier 2007-SW-40-AD; Amendment 39-15341; AD 2008-02-11]

RIN 2120-AA64

Airworthiness Directives; Eurocopter France Model SA332C, L, L1, and L2 Helicopters

AGENCY: Federal Aviation Administration (FAA), Department of Transportation (DOT).

ACTION: Final rule; request for comments.

SUMMARY: We are adopting a new airworthiness directive (AD) for the specified Eurocopter France (ECF) model helicopters. This AD results from mandatory continuing airworthiness information (MCAI) originated by an aviation authority to identify and correct an unsafe condition on an aviation product. The European Safety Agency (EASA), the Technical Agent for France, with which we have a bilateral agreement, states in the MCAI:

This Airworthiness Directive (AD) is issued following the failure of an attachment bolt securing the main rotor RH servo-control to the non-rotating swash-plate.

Failure of the servo-control/swash-plate attachment in flight leads to a catastrophic situation.

This AD requires actions that are intended to address this same unsafe condition.

DATES: This AD becomes effective February 8, 2008.

The Director of the Federal Register approved the incorporation by reference of Eurocoper Alert Service Bulletin No. 67.00.36, dated October 9, 2006, as of February 8, 2008.

We must receive comments on this AD by March 24, 2008.

ADDRESSES: You may send comments by any of the following methods:

• Federal eRulemaking Portal: Go to http://www.regulations.gov. Follow the instructions for submitting comments.

• Fax: 202-493-2251.

• Mail: U.S. Department of Transportation, Docket Operations, M-30, West Building Ground Floor, Room W12-140, 1200 New Jersey Avenue, SE., Washington, DC 20590.

• Hand Delivery: U.S. Department of Transportation, Docket Operations, M-30, West Building Ground Floor, Room W12-140, 1200 New Jersey Avenue, SE., Washington, DC 20590, between 9 a.m. and 5 p.m., Monday through Friday, except Federal holidays.

Examining the AD Docket

You may examine the AD docket on the Internet at http://www.regulations.gov or in person at the Docket Operations office between 9 a.m. and 5 p.m., Monday through Friday, except Federal holidays. The AD docket contains this AD, the economic evaluation, any comments received, and other information. The street address for the Docket Operations office (telephone (800) 647-5527) is in the ADDRESSES section. Comments will be available in the AD docket shortly after receipt.

FOR FURTHER INFORMATION CONTACT: Uday Garadi, Aviation Safety Engineer, FAA, Rotorcraft Directorate, Regulations and Guidance Group, Fort Worth, Texas 76193-0110, telephone (817) 222-5123, fax (817) 222-5961.

SUPPLEMENTARY INFORMATION:

Streamlined Issuance of AD

The FAA is implementing a new process for streamlining the issuance of ADs related to MCAI. This streamlined process will allow us to adopt MCAI safety requirements in a more efficient manner and will reduce safety risks to the public. This process continues to follow all FAA AD issuance processes to meet legal, economic, Administrative Procedure Act, and Federal Register requirements. We also continue to meet our technical decision-making responsibilities to identify and correct unsafe conditions on U.S.-certificated products.

This AD references the MCAI and related service information that we considered in forming the engineering basis to correct the unsafe condition. The AD contains text copied from the MCAI and for this reason might not follow our plain language principles.

Discussion

The European Aviation Safety Agency (EASA), which is the technical agent for the Member States of the European Community, has issued Airworthiness Directive No. 2006-0306-E, dated October 10, 2006, to correct an unsafe condition for the French-certificated products. The MCAI states:

This Airworthiness Directive (AD) is issued following the failure of an attachment bolt securing the main rotor RH servo-control to the non-rotating swash-plate.

Failure of the servo-control/swash-plate attachment in flight leads to a catastrophic situation.

You may obtain further information by examining the MCAI and service information in the AD docket.

Relevant Service Information

ECF has issued Alert Service Bulletin No. 67.00.36, dated October 9, 2006. The actions described in the MCAI are intended to correct the same unsafe condition as that identified in the service information.

FAA's Determination and Requirements of This AD

This product has been approved by the aviation authority of the member states of the European community and is approved for operation in the United States. Pursuant to our bilateral agreement with France, the State of Design, a member of the European community, we have been notified of the unsafe condition described in the MCAI and service information. We are issuing this AD because we evaluated all pertinent information and determined the unsafe condition exists and is likely to exist or develop on other products of these same type designs.

Differences Between the AD and the MCAI or Service Information

We have reviewed the MCAI and related service information and, in general, agree with their substance. However, our AD differs from the MCAI and service information as follows: We have changed the word “check” to “inspect” to more clearly indicate that we are requiring the work to be performed by a certificated mechanic. Also, this AD does not require that the operator send the information to the manufacturer as specified in the ASB. In making these changes, we do not intend to differ substantively from the information provided in the MCAI and related service information. These differences are highlighted in the “Differences Between the FAA AD and the MCAI” section within the AD.

FAA's Determination of the Effective Date

An unsafe condition exists that requires the immediate adoption of this AD. The FAA has found that the risk to the flying public justifies waiving notice and comment prior to adoption of this rule because the EASA AD was issued following the failure of an attachment bolt securing the main rotor right-hand servo-control or swash plate attachment in flight, which can lead to a complete loss of control of the helicopter. Therefore, we determined that notice and opportunity for public comment before issuing this AD are impracticable and that good cause exists for making this amendment effective in fewer than 30 days.

Comments Invited

This AD is a final rule that involves requirements affecting flight safety, and we did not precede it by notice and opportunity for public comment. We invite you to send any written relevant data, views, or arguments about this AD. Send your comments to an address listed under the ADDRESSES section. Include “Docket No. FAA-2008-0044; Directorate Identifier 2007-SW-40-AD” at the beginning of your comments. We specifically invite comments on the overall regulatory, economic, environmental, and energy aspects of this AD. We will consider all comments received by the closing date and may amend this AD because of those comments.

We will post all comments we receive, without change, to http://www.regulations.gov, including any personal information you provide. We will also post a report summarizing each substantive verbal contact we receive about this AD.

Costs of Compliance

We estimate that this AD will affect 4 helicopters of U.S. registry and will take about 3 work hours to inspect the bolts. The average labor rate is $80 per work-hour. Required parts will cost about $600 for three bolts per helicopter. Based on these figures, we estimate the total cost to be $3,360.

Authority for This Rulemaking

Title 49 of the United States Code specifies the FAA's authority to issue rules on aviation safety. Subtitle I, section 106, describes the authority of the FAA Administrator. “Subtitle VII: Aviation Programs,” describes in more detail the scope of the Agency's authority.

We are issuing this rulemaking under the authority described in “Subtitle VII, Part A, Subpart III, Section 44701: General requirements.” Under that section, Congress charges the FAA with promoting safe flight of civil aircraft in air commerce by prescribing regulations for practices, methods, and procedures the Administrator finds necessary for safety in air commerce. This regulation is within the scope of that authority because it addresses an unsafe condition that is likely to exist or develop on products identified in this rulemaking action.

Regulatory Findings

We determined that this AD will not have federalism implications under Executive Order 13132. This AD will not have a substantial direct effect on the States, on the relationship between the national government and the States, or on the distribution of power and responsibilities among the various levels of government.

For the reasons discussed above, I certify this AD:

1. Is not a “significant regulatory action” under Executive Order 12866;

2. Is not a “significant rule” under the DOT Regulatory Policies and Procedures (44 FR 11034, February 26, 1979); and

3. Will not have a significant economic impact, positive or negative, on a substantial number of small entities under the criteria of the Regulatory Flexibility Act.

We prepared an economic evaluation of the estimated costs to comply with this AD and placed it in the AD docket.

List of Subjects in 14 CFR Part 39

Air transportation, Aircraft, Aviation safety, Incorporation by reference, Safety.

Adoption of the Amendment

Accordingly, under the authority delegated to me by the Administrator, the FAA amends 14 CFR part 39 as follows:

PART 39—AIRWORTHINESS DIRECTIVES

1. The authority citation for part 39 continues to read as follows:

Authority: 49 U.S.C. 106(g), 40113, 44701.

§ 39.13 [Amended]

2. The FAA amends § 39.13 by adding the following new AD:

2008-02-11 Eurocopter France: Amendment 39-15341. Docket No. FAA-2008-0044; Directorate Identifier 2007-SW-40-AD.

Effective Date

(a) This airworthiness directive (AD) becomes effective February 8, 2008.

Other Affected ADs

(b) None.

Applicability

(c) This AD applies to Model AS332C, L, L1, and L2 helicopters, certificated in any category.

Reason

(d) The mandatory continued airworthiness information (MCAI) states:

This Airworthiness Directive (AD) is issued following the failure of an attachment bolt securing the main rotor RH servo-control to the non-rotating swash-plate.

Failure of the servo-control/swash-plate attachment in flight leads to a catastrophic situation.

Actions and Compliance

(e) Within 15 hours time-in-service (TIS), unless already done, do the following actions:

(1) For each swashplate attachment bolt, part number 332A31-1340-21, having 500 or more hours time-in-service, inspect for tightening torque, wear, and a crack in each of these three bolts that attach the main servo controls to the nonrotating swashplate. Do this inspection by following the Accomplishment Instructions, paragraph 2.B. and Figure 1, of Eurocopter Alert Service Bulletin No. 67.00.36, dated October 9, 2006 (ASB).

(2) If there is a crack in a bolt or if the differential wear on a bolt between areas F, G, and H (as depicted in Figure 1 of the ASB) is more than 0.005 millimeter, replace the bolt with an airworthy bolt before further flight.

Differences Between the FAA AD and the MCAI

(f) We have changed the word “check” to “inspect” to more clearly indicate that we are requiring the work to be performed by a certificated mechanic. Also, this AD does not require that the operator send the information to the manufacturer as specified in the ASB.

Subject

(g) Air Transport Association of America (ATA) Code 6700 Rotor Flight Controls.

Other Information

(h) The following provisions also apply to this AD:

(1) Alternative Methods of Compliance (AMOCs): The Manager, Safety Management Group, FAA, has the authority to approve AMOCs for this AD, if requested using the procedures found in 14 CFR 39.19. Send information to ATTN: Uday Garadi, Aviation Safety Engineer, FAA, Rotorcraft Directorate, Regulations and Guidance Group, Fort Worth, Texas 76193-0110, telephone (817) 222-5123, fax (817) 222-5961.

(2) Airworthy Product: Use only FAA-approved corrective actions. Corrective actions are considered FAA-approved if they are approved by the State of Design Authority (or their delegated agent) if the State of Design has an appropriate bilateral agreement with the United States. You are required to assure the product is airworthy before it is returned to service.

(3) Reporting Requirements: For any reporting requirement in this AD, under the provisions of the Paperwork Reduction Act, the Office of Management and Budget (OMB) has approved the information collection requirements and has assigned OMB Control Number 2120-0056.

Related Information

(i) MCAI European Aviation Safety Agency (EASA) Airworthiness Directive No. 2006-0306-E, dated October 10, 2006, contains related information.

(j) The Director of the Federal Register approved the incorporation by reference of this Eurocopter Alert Service Bulletin No. 67.00.36, dated October 9, 2006, under 5 U.S.C. 552(a) and 1 CFR part 51.

(k) For service information identified in this AD, contact American Eurocopter Corporation, 2701 Forum Drive, Grand Prairie, Texas 75053-4005, telephone (972) 641-3460, fax (972) 641-3527.

(l) You may review copies of Eurocopter Alert Service Bulletin No. 67.00.36, dated October 9, 2006, at the FAA, Office of the Regional Counsel, Southwest Region, 2601 Meacham Blvd., Room 663, Fort Worth, Texas, or at the National Archives and Records Administration (NARA). For information on the availability of this material at NARA, call (202) 741-6030, or go to: http://www.archives.gov/federal-register/cfr/ibr-locations.html.

Issued in Fort Worth, Texas, on December 27, 2007.
David A. Downey,
Manager, Rotorcraft Directorate, Aircraft Certification Service.

[FR Doc. E8-1028 Filed 1-23-08; 8:45 am]

BILLING CODE 4910-13-P